DEPARTMENT OF HOMELAND SECURITY

Coast Guard

46 CFR Part 28

[Docket No. USCG-2012-0025]

RIN 1625-AB85

Commercial Fishing Vessels—Implementation of 2010 and 2012 Legislation

AGENCY: Coast Guard, DHS.

ACTION: Notice of proposed rulemaking; extension of public comment period.

SUMMARY: The Coast Guard is extending, for 90 days, the period for submitting public comments on the notice of proposed rulemaking (NPRM). The extension responds to a request made by the public.

DATES: The comment period for the NPRM published on June 21, 2016 (81 FR 40437) is extended. Comments and related material must be submitted on or before December 18, 2016.

ADDRESSES: You may submit comments identified by docket number USCG-2012-0025 using the Federal eRulemaking Portal at http://www.regulations.gov. See the “Public Participation and Request for Comments” portion of the SUPPLEMENTARY INFORMATION section for further instructions on submitting comments.

Collection of Information. You must submit comments on the collection of information discussed in section VII.D of the NPRM both to the Coast Guard's docket and to the Office of Information and Regulatory Affairs (OIRA) in the White House Office of Management and Budget. OIRA submissions can use one of the listed methods.

• Email (preferred)—oira_submission@omb.eop.gov (include the docket number and “Attention: Desk Officer for Coast Guard, DHS” in the subject line of the email).

• Fax—202-395-6566.

• Mail—Office of Information and Regulatory Affairs, Office of Management and Budget, 725 17th Street NW., Washington, DC 20503, ATTN: Desk Officer, U.S. Coast Guard.

FOR FURTHER INFORMATION CONTACT: If you have questions on this proposed rule, call or email Mr. Jack Kemerer, Chief, Fishing Vessels Division (CG-CVC-3), Office of Commercial Vessel Compliance (CG-CVC), Coast Guard; telephone 202-372-1249, email Jack.A.Kemerer@uscg.mil.

SUPPLEMENTARY INFORMATION:

A. Public Participation and Request for Comments

We view public participation as essential to effective rulemaking, and will consider all comments and material received during the comment period. Your comment can help shape the outcome of this rulemaking. If you submit a comment, please include the docket number for this rulemaking, indicate the specific section of this document to which each comment applies, and provide a reason for each suggestion or recommendation.

We encourage you to submit comments through the Federal eRulemaking Portal at http://www.regulations.gov. If your material cannot be submitted using http://www.regulations.gov, contact the person in the FOR FURTHER INFORMATION CONTACT section of this document for alternate instructions. Documents mentioned in this notice and all public comments, are in our online docket at http://www.regulations.gov and can be viewed by following that Web site's instructions. Additionally, if you go to the online docket and sign up for email alerts, you will be notified when comments are posted or a final rule is published.

We accept anonymous comments. All comments received will be posted without change to http://www.regulations.gov and will include any personal information you have provided. For more about privacy and the docket, you may review a Privacy Act notice regarding the Federal Docket Management System in the March 24, 2005, issue of the Federal Register (70 FR 15086).

B. Regulatory History and Information

We published the NPRM for this rulemaking on June 21, 2016 (81 FR 40437). It proposed to align the commercial fishing industry vessel regulations with the mandatory provisions of 2010 and 2012 legislation passed by Congress that took effect upon enactment. The alignments would change the applicability of current regulations, and add new requirements for safety equipment, vessel examinations, vessel safety standards, the documentation of maintenance, and the termination of unsafe operations. The NPRM announced a 90-day public comment period ending September 19, 2016. We have received requests for an extension of the comment period, which we have decided to grant in light of the importance of our proposed changes to the regulations, and to provide ample opportunity for commercial fishermen to review and provide their comments. With this extension, the total length of the public comment period will now be 180 days.

This notice is issued under authority of 5 U.S.C. 552(a).

Dated: August 9, 2016.
J.G. Lantz,
Director of Commercial Regulations and Standards, U.S. Coast Guard.

[FR Doc. 2016-19272 Filed 8-12-16; 8:45 am]

BILLING CODE 9110-04-P